DEPARTMENT OF EDUCATION

Submission for OMB Review; Comment Request

AGENCY: Department of Education.

SUMMARY: The Acting Director, Information Collection Clearance Division, Regulatory Information Management Services, Office of Management invites comments on the submission for OMB review as required by the Paperwork Reduction Act of 1995.

DATES: Interested persons are invited to submit comments on or before April 1, 2010.

ADDRESSES: Written comments should be addressed to the Office of Information and Regulatory Affairs, Attention: Education Desk Officer, Office of Management and Budget, 725 17th Street, NW., Room 10222, New Executive Office Building, Washington, DC 20503, be faxed to (202) 395-5806 or e-mailed to oira_submission@omb.eop.gov with a cc: to ICDocketMgr@ed.gov.

SUPPLEMENTARY INFORMATION: Section 3506 of the Paperwork Reduction Act of 1995 (44 U.S.C. Chapter 35) requires that the Office of Management and Budget (OMB) provide interested Federal agencies and the public an early opportunity to comment on information collection requests. OMB may amend or waive the requirement for public consultation to the extent that public participation in the approval process would defeat the purpose of the information collection, violate State or Federal law, or substantially interfere with any agency's ability to perform its statutory obligations. The Acting Director, Information Collection Clearance Division, Regulatory Information Management Services, Office of Management, publishes that notice containing proposed information collection requests prior to submission of these requests to OMB. Each proposed information collection, grouped by office, contains the following: (1) Type of review requested, e.g. new, revision, extension, existing or reinstatement; (2) Title; (3) Summary of the collection; (4) Description of the need for, and proposed use of, the information; (5) Respondents and frequency of collection; and (6) Reporting and/or Recordkeeping burden. OMB invites public comment.

Dated: February 25, 2010.
James Hyler,
Acting Director, Information Collection Clearance Division, Regulatory Information Management Services, Office of Management.

Institute of Education Sciences

Type of Review: New.

Title: Programme For The International Assessment Of Adult Competencies (PIAAC) 2010 Field Test And 2011/2012 Main Study Data Collection.

Frequency: Annually.

Affected Public: Individuals and households.

Reporting and Recordkeeping Hour Burden:

Responses: 6,097.

Burden Hours: 1,858.

Abstract: The National Center for Education Statistics (NCES) seeks OMB approval to survey adults (16-65 years old) for the 2010 administration of the field-test for the Program for the International Assessment of Adult Competencies (PIAAC). PIAAC is coordinated by the Organization for Economic Cooperation and Development (http://www.oecd.org/) and sponsored by the U.S. Departments of Education and Labor in the United States. PIAAC is the OECD's new international household study of adults' literacy, numeracy, and problem-solving in technology-rich environments. It will also survey respondents about their education and employment experience and about the skills they use at work. PIAAC builds on previous international literacy assessments: the 2002 Adult Literacy and Lifeskills Survey (ALLS) and the 1994-98 International Adult Literacy Survey (IALS). PIAAC is expected to be on a 10-year cycle. In 2011, 27 countries, including 23 OECD-member countries, plan to participate. The U.S. PIAAC field test data collection will occur between August and November 2010. The main study will occur between September 2011 and March 2012. NCES will seek approval for the full-scale instruments in the fall of 2010.

Requests for copies of the information collection submission for OMB review may be accessed from http://edicsweb.ed.gov, by selecting the “Browse Pending Collections” link and by clicking on link number 4194. When you access the information collection, click on “Download Attachments” to view. Written requests for information should be addressed to U.S. Department of Education, 400 Maryland Avenue, SW., LBJ, Washington, DC 20202-4537. Requests may also be electronically mailed to the Internet address ICDocketMgr@ed.gov or faxed to 202-401-0920. Please specify the complete title of the information collection when making your request.

Comments regarding burden and/or the collection activity requirements should be directed to ICDocketMgr@ed.gov. Individuals who use a telecommunications device for the deaf (TDD) may call the Federal Information Relay Service (FIRS) at 1-800-877-8339.

[FR Doc. 2010-4314 Filed 3-1-10; 8:45 am]

BILLING CODE 4000-01-P